DEPARTMENT OF LABOR

Employment and Training Administration

Notice of Negative Determination on Reconsideration

TA-W-60,835, Kimberly Clark Corporation, Kimberly Clark World-Wide, Neenah, Wisconsin.

TA-W-60,835A, Kimberly Clark Global Sales, Roswell, Georgia.

TA-W-60,835B, Kimberly Clark World-Wide, Roswell, Georgia.

TA-W-60,835C, Kimberly Clark Global Sales, Knoxville, Tennessee.

TA-W-60,835D, Kimberly Clark World-Wide, Knoxville, Tennessee.

TA-W-60,835E, Kimberly Clark Global Sales, Irving, Texas.

On May 29, 2007, the Department of Labor (Department) issued an Affirmative Determination Regarding Application for Reconsideration for workers and former workers of several Kimberly Clark Corporation (the subject firm) locations: Kimberly Clark World-Wide, Neenah, Wisconsin [TA-W-60,835]; Kimberly Clark Global Sales, Roswell, Georgia [TA-W-60,835A]; Kimberly Clark World-Wide, Roswell, Georgia [TA-W-60,835B]; Kimberly Clark Global Sales, Knoxville, Tennessee [TA-W-60,835C]; Kimberly Clark World-Wide, Knoxville, Tennessee [TA-W-60,835D]; and Kimberly Clark Global Sales, Irving, Texas [TA-W-60,835E].

The Department's Notice of Affirmative Determination was published in the Federal Register on June 7, 2007 (72 FR 31612). Workers provided administrative support to various affiliated subject firm facilities.

The negative determination regarding the subject workers' eligibility to apply for Trade Adjustment Assistance (TAA) and Alternative Trade Adjustment Assistance (ATAA) stated that the worker separations are not caused by imports but by the subject firm's decision to outsource administrative support positions, and that the separations cannot be directly attributed to imports or a shift in production of an article. The determination also states that workers at Kimberly Clark Corporation, Kimberly-Clark Global Sales, Neenah, Wisconsin are eligible to apply for TAA and ATAA under TA-W-60,017 (expires September 26, 2008).

In the request for reconsideration, counsel for the subject firm alleged that the petitioning worker groups either had a direct link to or directly supported production at affiliated certified production facilities. The request also states that the separated workers are members of several groups within Kimberly Clark—Consumer Sales, Corporate Innovation, Finance and Accounting, and Sourcing and Supply Management.

Subject firm counsel asserts that workers in the Consumer Sales group are directly linked to TAA-certified production facilities because they are engaged in the sale of the articles produced at those facilities.

Subject firm counsel also asserts that workers in the Corporate Innovations group directly support production at TAA-certified subject firm facilities by responding to consumer complaints and providing feedback to other groups who use the feedback to improve the articles, and by engaging in the research and development of articles produced at TAA-certified subject firm facilities. Subject firm counsel notes in the request for reconsideration that several workers in the Corporate Innovations group are eligible to apply for TAA and ATAA under TA-W-60,017.

The request for reconsideration asserts that workers in the Finance and Accounting group directly support production at the subject firm's facilities because they are engaged in accounting and financing activities that ensure the continuous operation of subject firm production facilities.

The request for reconsideration also asserts that workers in the Sourcing and Supply Management group directly support production at the subject firm's facilities because they procure materials, equipment, and services required for production at these facilities, and because they are engaged in commodity management related to articles produced by the subject firm.

The workers separated from the subject firm are categorized as follows:

World-Wide, Neenah, Wisconsin [TA-W-60,835]

The one worker separated at this site is a member of the Corporate Innovations group.

Global Sales, Roswell, Georgia [TA-W-60,835A]

One worker separated at this site is a member of the Consumer Sales group and five workers separated at this site are members of the Corporate Innovations group.

World-Wide, Roswell, Georgia [TA-W-60,835B]

The five workers separated at this site are members of the Corporate Innovations group.

Global Sales, Knoxville, Tennessee [TA-W-60,835C]

One worker separated at this site is a member the Consumer Sales group, forty-three workers separated at this site are members of the Finance and Accounting group, and four workers separated at this site are members of the Sourcing and Supply Management group.

World-Wide, Knoxville, Tennessee [TA-W-60,835D]

The one worker separated at this site is a member of the Corporate Innovations group.

Global Sales, Irving, Texas [TA-W-60,835E]

The five workers separated at this site are members of the Consumer Sales group.

The request for reconsideration also stated that, contrary to the Department's initial findings, the separated workers' positions were not outsourced but were eliminated as a result of decreased subject firm production.

Although the Department contacted the subject firm during the reconsideration investigation to request additional information, no new information was provided.

The Department has carefully reviewed the available material, and has determined that there is no evidence that the Department failed to consider any relevant fact or that the Department erred in its interpretation of the facts. As such, the Department affirms the negative determination applicable to subject firms workers at Kimberly Clark World-Wide, Neenah, Wisconsin [TA-W-60,835]; Kimberly Clark Global Sales, Roswell, Georgia [TA-W-60,835A]; Kimberly Clark World-Wide, Roswell, Georgia [TA-W-60,835B]; Kimberly Clark Global Sales, Knoxville, Tennessee [TA-W-60,835C]; Kimberly Clark World-Wide, Knoxville, Tennessee [TA-W-60,835D]; and Kimberly Clark Global Sales, Irving, Texas [TA-W-60,835E].

In order for the Department to issue a certification of eligibility to apply for ATAA, the subject worker group must be certified eligible to apply for TAA. Since the subject workers are denied eligibility to apply for TAA, the workers cannot be certified eligible for ATAA.

Conclusion

After careful reconsideration, I affirm the original notice of negative determination of eligibility to apply for worker adjustment assistance for workers and former workers of Kimberly Clark Corporation located at Kimberly Clark World-Wide, Neenah, Wisconsin [TA-W-60,835]; Kimberly Clark Global Sales, Roswell, Georgia [TA-W-60,835A]; Kimberly Clark World-Wide, Roswell, Georgia [TA-W-60,835B]; Kimberly Clark Global Sales, Knoxville, Tennessee [TA-W-60,835C]; Kimberly Clark World-Wide, Knoxville, Tennessee [TA-W-60,835D]; and Kimberly Clark Global Sales, Irving, Texas [TA-W-60,835E].

Signed at Washington, DC, this 27th day of June 2007.
Elliott S. Kushner;
Certifying Officer, Division of Trade Adjustment Assistance.

[FR Doc. E7-12910 Filed 7-3-07; 8:45 am]

BILLING CODE 4510-FN-P